INTERNATIONAL TRADE COMMISSION

[Investigation No. 337-TA-1102]

Certain Light Engines and Components Thereof; Commission Determination Not To Review an Initial Determination Granting a Joint Motion To Terminate the Investigation in Its Entirety Based Upon a Consent Order Stipulation; Issuance of Consent Order

AGENCY: U.S. International Trade Commission.

ACTION: Notice.

SUMMARY: Notice is hereby given that the U.S. International Trade Commission has determined not to review the presiding administrative law judge's (“ALJ”) initial determination (“ID”) (Order No. 2) granting a joint motion to terminate the investigation in its entirety based upon a consent order stipulation; entry of consent order and termination of investigation.

FOR FURTHER INFORMATION CONTACT: Panyin A. Hughes, Office of the General Counsel, U.S. International Trade Commission, 500 E Street SW, Washington, DC 20436, telephone 202-205-3042. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on March 16, 2018, based on a complaint filed by Lumencor, Inc. of Beaverton, Oregon (“Lumencor”). 83 FR 11789 (Mar. 16, 2018). The complaint alleges violations of section 337 of the Tariff Act of 1930, as amended (19 U.S.C. 1337), in the importation into the United States, the sale for importation, and the sale within the United States after importation of certain light engines and components thereof by reason of infringement of one or more of claims 1-6, 10, 11, and 16-19 of U.S. Patent No. 9,574,722 (“the '722 patent”); claims 1-3, 5, 7, 9, 11-13, 15, 17, and 20 of U.S. Patent No. 9,395,055 (“the '055 patent”); and claims 1, 4, 6, 7, 9, 16, and 18 of U.S. Patent No. 8,493,564 (“the '564 patent”). The notice of investigation named the following respondents: Excelitas Technologies Corp. of Waltham, Massachusetts and Lumen Dynamics Group, Inc. of Mississauga, Ontario, Canada (collectively, “Respondents”). The Office of Unfair Import Investigations is not a party to the investigation.

On March 15, 2018, Lumencor and Respondents filed a joint motion to terminate the investigation in its entirety based upon consent order stipulation. No responses to the motion were filed. We note that the Commission issued its notice to institute this investigation on March 12, 2018, but the notice did not appear in the Federal Register until March 16, 2018.

On March 20, 2018, the ALJ issued the subject ID, granting the motion. On March 26, 2018, the ALJ issued errata correcting a typographical error on page 2 of the ID (changing “Lumencor also agrees to” to “Respondents also agree to”). The ALJ found that the consent order stipulation complies with the requirements of Commission Rule 210.21(c)(3) (19 CFR 210.21(c)(3)), and that terminating the investigation in its entirety would not be contrary to the public interest. None of the parties petitioned for review of the ID.

The Commission has determined not to review the ID and to issue consent order herewith.

The authority for the Commission's determination is contained in section 337 of the Tariff Act of 1930, as amended (19 U.S.C. 1337), and in Part 210 of the Commission's Rules of Practice and Procedure (19 CFR part 210).

By order of the Commission.
Issued: April 6, 2018.
Lisa Barton,
Secretary to the Commission.

[FR Doc. 2018-07452 Filed 4-10-18; 8:45 am]

BILLING CODE 7020-02-P